DEPARTMENT OF HEALTH AND HUMAN SERVICES

Announcement of Solicitation of Written Comments on Proposed Healthy People 2030 Objectives

AGENCY: Department of Health and Human Services, Office of the Secretary, Office of the Assistant Secretary of Health, Office of Disease Prevention and Health Promotion.

ACTION: Notice.

SUMMARY: The U.S. Department of Health and Human Services (HHS) solicits written comments on an additional objective proposed to be added to Healthy People 2030, and written comments from the public proposing additional new core, developmental, or research objectives to be included in Healthy People 2030. Public comment informed the development of Healthy People 2030. HHS will provide opportunities for public input periodically throughout the decade to ensure Healthy People 2030 reflects current public health priorities and public input. The updated set of Healthy People 2030 objectives will be incorporated on https://health.gov/healthypeople. This updated set will reflect further review and deliberation by federal Healthy People topic area workgroups, the Federal Interagency Workgroup on Healthy People 2030, and other federal subject matter experts.

DATES: Written comments will be accepted through 11:59 p.m. ET, December 2, 2022.

ADDRESSES: Written comments should be submitted by email to HP2030Comment@hhs.gov.

FOR FURTHER INFORMATION CONTACT: Dana Rosenberg, Office of Disease Prevention and Health Promotion, U.S. Department of Health and Human Services, 1101 Wootton Parkway, Suite 420, Rockville, MD 20852; Email: HP2030@hhs.gov; Phone: 240-453-6092.

SUPPLEMENTARY INFORMATION: Since 1980, Healthy People has provided a comprehensive set of national health promotion and disease prevention objectives with 10-year targets aimed at improving the health of all. Healthy People 2030 objectives present a picture of the nation's health at the beginning of the decade, establish national goals and targets to be achieved by the year 2030, and monitor progress over time. The U.S. Department of Health and Human Services (HHS) is soliciting the submission of written comments regarding one core objective proposed to be added to Healthy People 2030. The public is also invited to submit proposals for additional new core, developmental, or research objectives that meet the criteria outlined below.

Healthy People 2030 is the product of an extensive collaborative process that relies on input from a diverse array of individuals and organizations, both within and outside the federal government, with a common interest in improving the nation's health. Public comments are a cornerstone of Healthy People 2030. During the development of Healthy People 2030, HHS asked for the public's comments to help shape the initiative's framework (vision, mission, and overarching goals) and its objectives. HHS plans to periodically seek public comment to ensure Healthy People 2030 remains relevant and reflects emerging public health issues.

The public now is invited to comment on one new core objective proposed to be added to Healthy People 2030. This new objective was developed by federal subject matter experts, approved by the Healthy People Federal Interagency Workgroup and is presented for the public's review and comment. The objective is:

1. Social Determinants of Health-NEW-07: Increase the proportion of the voting age citizens who vote. Data Source: Current Population Survey (CPS), U.S. Census Bureau and the U.S. Bureau of Labor Statistics (BLS).

The public is also invited to propose additional core, developmental, or research objectives for consideration that address critical public health issues. Proposed new objectives must meet all the objective selection criteria (see below).

Objective Selection Criteria

Core Objectives

Core objectives must meet the following 5 criteria to be included in Healthy People 2030. Core objectives should (1) have a reliable, nationally representative data source with baseline data no older than 2015; (2) have at least 2 additional data points beyond the baseline during the decade; (3) be of national importance; (4) have effective, evidence-based interventions available to achieve the objective; and (5) have data to help address disparities and achieve health equity.

Developmental Objectives

Developmental objectives will have the following characteristics: (1) represent high priority issues; (2) do not have reliable baseline data yet; and (3) have evidence-based interventions available.

Research Objectives

Research objectives will have the following characteristics: (1) represent key opportunities to make progress in areas with limited prior research, a high health or economic burden, or significant disparities between population groups; (2) may or may not have reliable baseline data; and (3) do not have evidence-based interventions available.

Written comments and evidence-based information should be submitted by email to HP2030Comment@hhs.gov by 11:59 p.m. ET on December 2, 2022. Comments received in response to this notice will be reviewed and considered by the Healthy People topic area workgroups, Federal Interagency Workgroup on Healthy People 2030, and other federal subject matter experts.

Paul Reed,
RDML, U.S. Public Health Service, Deputy Assistant Secretary for Health, Office of Disease Prevention and Health Promotion.

[FR Doc. 2022-22983 Filed 10-21-22; 8:45 am]

BILLING CODE 4150-32-P